DEPARTMENT OF ENERGY

Federal Energy Regulatory Commission

[Docket No. AD05-3-000]

Promoting Regional Transmission Planning and Expansion To Facilitate Fuel Diversity Including Expanded Uses of Coal-Fired Resources; Supplemental Notice of Technical Conference

March 21, 2005.

As announced in a Notice of Technical Conference issued on February 16, 2005 in the above referenced proceedings, a technical conference will be held on Friday, May 13, 2005, to identify regional solutions to promoting regional transmission planning, expansion and enhancement to facilitate fuel diversity including increased integration of coal-fired resources to the transmission grid. The conference will be held at the Charleston Marriott Town Center, 200 Lee Street East, Charleston, West Virginia 25301. Take note that the conference is now scheduled to begin at 8:30 a.m. (instead of 9 a.m.) and end at approximately 5 p.m. (EDT). The Commissioners will attend and participate.

A proposed agenda is attached. The Commission is now soliciting nominations for speakers at the technical conference. Persons wishing to nominate themselves as speakers should do so using this electronic link: http://www.ferc.gov/whats-new/registration/coal-05-13-speaker-form.asp. Such nominations must be made before the close of business Friday, April 1, 2005, so that a final agenda for the technical conference can be drafted and published.

Although registration is not a strict requirement, in-person attendees are asked to register for the conference on-line by close of business on May 10, 2005 at http://www.ferc.gov/whats-new/registration/coal-05-13-form.asp.

Transcripts of the conference will be immediately available from Ace Reporting Company (202-347-3700 or 1-800-266-6646) for a fee. They will be available for the public on the Commission's eLibrary system and on the calendar page posting for this event seven calendar days after FERC receives the transcript. Additionally, Capitol Connection offers the opportunity for remote listening of the conference via Real Audio or a Phone Bridge Connection for a fee. Persons interested in making arrangements should contact David Reininger or Julia Morelli at Capitol Connection (703-933-3100) as soon as possible or visit the Capitol Connection Web site at http://www.capitolconnection.org and click on “FERC.”

For additional information, please contact Sarah McKinley at 202-502-8004, sarah.mckinley@ferc.gov.

Magalie R. Salas,
Secretary.

[FR Doc. E5-1417 Filed 3-30-05; 8:45 am]

BILLING CODE 6717-01-P